INTERNATIONAL TRADE COMMISSION

[Investigation TA-2104-6]

U.S.-Singapore Free Trade Agreement: Potential Economywide and Selected Sectoral Effects

AGENCY: United States International Trade Commission.

ACTION: Institution of investigation and scheduling of public hearing.

EFFECTIVE DATE: March 3, 2003.

SUMMARY: Following receipt of a request on January 21, 2003, from the United States Trade Representative (USTR), the Commission instituted investigation No. TA-2104-6, U.S.-Singapore Free Trade Agreement: Potential Economywide and Selected Sectoral Effects, under section 2104(f) of the Trade Act of 2002 (19 U.S.C. 3804(f)).

Background: As requested by the USTR, the Commission will prepare a report as specified in section 2104(f)(2) of the Trade Act of 2002 (19 U.S.C. 3804(f)(2)) assessing the likely impact of the U.S.-Singapore FTA on the United States economy as a whole and on specific industry sectors and the interests of U.S. consumers. Specifically, the report will—

assess the likely impact of the agreement on the United States economy as a whole and on specific industry sectors, including the impact the agreement will have on the gross domestic product, exports and imports, aggregate employment and employment opportunities, the production, employment, and competitive position of industries likely to be significantly affected by the agreement, and the interests of United States consumers.

In preparing its assessment, the Commission will review available economic assessments regarding the agreement, including literature regarding any substantially equivalent proposed agreement, and will provide in its assessment a description of the analyses used and conclusions drawn in such literature, and a discussion of areas of consensus and divergence between the various analyses and conclusions, including those of the Commission regarding the agreement. Section 2104(f)(2) requires that the Commission submit its report to the President and the Congress not later than 90 days after the President enters into the agreement, which he can do 90 days after he notifies the Congress of his intent to do so. The President notified the Congress on January 30, 2003, of his intent to enter into the FTA with Singapore.

FOR FURTHER INFORMATION CONTACT: Further information may be obtained from Diane Manifold, Project Leader, Office of Economics ((202) 205-3271). For information on the legal aspects of this investigation, contact William Gearhart of the Office of the General Counsel ((202) 205-3091). For media information, contact Peg O'Laughlin ((202) 205-1819). Hearing impaired individuals are advised that information on this matter can be obtained by contacting the TDD terminal on ((202) 205-1810).

Public Hearing: A public hearing in connection with the investigation will be held at the U.S. International Trade Commission Building, 500 E Street SW., Washington, DC, beginning at 9:30 a.m. on April 24, 2003. All persons shall have the right to appear, by counsel or in person, to present information and to be heard. Requests to appear at the public hearing should be filed with the Secretary, United States International Trade Commission, 500 E Street SW., Washington, DC 20436, no later than 5:15 p.m., April 10, 2003. Any prehearing briefs (original and 14 copies) should be filed not later than 5:15 p.m., April 17, 2003; the deadline for filing post-hearing briefs or statements is 5:15 p.m., May 1, 2003. In the event that, as of the close of business on April 10, 2003, no witnesses are scheduled to appear at the hearing, the hearing will be canceled. Any person interested in attending the hearing as an observer or non-participant may call the Secretary of the Commission ((202) 205-1816) after April 10, 2003, to determine whether the hearing will be held.

Written Submission: In lieu of or in addition to participating in the hearing, interested parties are invited to submit written statements (original and 14 copies) concerning the matters to be addressed by the Commission in its report on this investigation. Commercial or financial information that a submitter desires the Commission to treat as confidential must be submitted on separate sheets of paper, each clearly marked “Confidential Business Information” at the top. All submissions requesting confidential treatment must conform with the requirements of section 201.6 of the Commission's Rules of Practice and Procedure (19 CFR 201.6). All written submissions, except for confidential business information, will be made available in the Office of the Secretary to the Commission for inspection by interested parties. The Commission intends to publish only a public report in this investigation. Accordingly, any confidential business information received by the Commission in this investigation and used in preparing the report will not be published in a manner that would reveal the operations of the firm supplying the information. To be assured of consideration by the Commission, written statements relating to the Commission's report should be submitted to the Commission at the earliest practical date and should be received no later than the close of business on May 1, 2003. All submissions should be addressed to the Secretary, United States International Trade Commission, 500 E Street SW., Washington, DC 20436. The Commission's rules do not authorize filing submissions with the Secretary by facsimile or electronic means, except to the extent permitted by section 201.8 of the Commission's Rules, as amended, 67 FR 68036 (Nov. 8 2002). The public record for this investigation may be viewed on the Commission's electronic docket (EDIS) at http://edis.usitc.gov.

Persons with mobility impairments who will need special assistance in gaining access to the Commission should contact the Office of the Secretary at ((202) 205-2000). General information concerning the Commission may also be obtained by accessing its Internet server (http://www.usitc.gov).

List of Subjects

Singapore, tariffs, trade, imports and exports.

Issued: March 17, 2003.
By order of the Commission.
Marilyn R. Abbott,
Secretary to the Commission.

[FR Doc. 03-6852 Filed 3-20-03; 8:45 am]

BILLING CODE 7020-02-P